DEPARTMENT OF COMMERCE

Bureau of Industry and Security

15 CFR 744

[Docket No. 040713207-4207-01]

RIN 0694-AD13

India: removal of Indian Entity and Revision in License Review Policy for Certain Indian Entities; and a Clarification; Correction

Correction

In rule document 04-21837 beginning on page 58049 in the issue of September 29, 2004, make the following correction:

PART 744, Supplement 4—[Corrected]

1. On page 58050, under the table “SUPPLEMENT No. 4 TO PART 744-ENTITY LIST-Continued”, in the first column “Country/Entity”, in the first line “Dpeartment” should read “Department”

2. On the same page, under the same table, in the same column, in the 11th line “subjet” should read “subject ”.

3. On the same page, under the same table, in the third column “License review policy”, in the second paragraph, in the eighth line “(NPI)” should read “(NP1)”.

[FR Doc. C4-21837 Filed 10-1-04; 8:45 am]

BILLING CODE 1505-01-D

DEPARTMENT OF COMMERCE

National Oceanic and Atmospheric Administration

50 CFR Part 300

[Docket No. 040209049-4117-02; I.D. 091404G]

Pacific Halibut Fisheries; Oregon Sport Fisheries

Correction

In rule document 04-21553 beginning on page 57651 in the issue of Monday, September 27, 2004, make the following correction:

On page 57652, in the first column, in the fourth line, the date “October 7, 2004” should read, “October 12, 2004.”

[FR Doc. C4-21553 Filed 10-1-04; 8:45 am]

BILLING CODE 1505-01-D

DEPARTMENT OF TRANSPORTATION

Federal Aviation Administration

14 CFR Part 71

[Docket No. FAA-2004-18821; Airspace Docket No. 04-ACE-47]

Modification of Class E Airspace; St. Francis, KS

Correction

In rule document 04-21528 beginning on page 57170 in the issue of September 24, 2004, make the following correction:

§71.1 [Corrected]

On page 57171, in the third column, in § 71.1, under the heading “ACE KS E5 St. Francis, KS”, in the third line, “(Lat. 39°40′40″ N.,” should read “(Lat. 39°45′40″ N.,”.

[FR Doc. C4-21528 Filed X-XX-04; 8:45 am]

BILLING CODE 1505-01-D

DEPARTMENT OF TRANSPORTATION

Federal Aviation Administration

14 CFR Part 71

[Docket No. FAA-2004-18822; Airspace Docket No. 04-ACE-48]

Modification of Class D Airspace; and Modification of Class E Airspace; Salina, KS

Correction

In rule document 04-21529 beginning on page 57169 in the issue of September 24, 2004, make the following correction:

§71.1 [Corrected]

On page 57170, in the second column, in § 71.1, under the heading “ACE KS E5 Salina, KS”, in the second line, “(Lat. 38°47′127″ N.,” should read “(Lat. 38°47′27″ N.,”.

[FR Doc. C4-21529 Filed 10-1-04; 8:45 am]

BILLING CODE 1505-01-D